DEPARTMENT OF AGRICULTURE

Forest Service

Newspapers Used for Publication of Legal Notices in the Southwestern Region, Which Includes Arizona, New Mexico, and Parts of Oklahoma and Texas

AGENCY: Forest Service, USDA.

ACTION: Notice.

SUMMARY: This notice lists the newspapers that will be used by all Ranger Districts, Grasslands, Forests, and the Regional Office of the Southwestern Region to publish legal notices. The intended effect of this action is to inform interested members of the public which newspapers the Forest Service will use to publish notices of proposed actions, notices of decision, and notices of opportunity to file an objection or appeal. This will provide the public with constructive notice of Forest Service proposals and decisions, provide information on the procedures to comment, appeal, or object, and establish the date that the Forest Service will use to determine if comments, appeals, or objections were timely.

DATES: Publication of legal notices in the listed newspapers will begin on the date of this publication and continue until further notice.

ADDRESSES: Roxanne Turley, Regional Administrative Review Coordinator, Forest Service, Southwestern Region; 333 Broadway SE, Albuquerque, NM 87102-3498.

FOR FURTHER INFORMATION CONTACT: Roxanne Turley, Regional Administrative Review Coordinator; (505) 842-3178.

SUPPLEMENTARY INFORMATION: The administrative procedures at 36 CFR 218 and 219 require the Forest Service to publish notices in a newspaper of general circulation. The content of the notices is specified in 36 CFR 218 and 219. In general, the notices will identify: The decision or project, by title or subject matter; the name and title of the official making the decision; how to obtain additional information; and where and how to file comments, appeals, or objections. The date the notice is published will be used to establish the official date for the beginning of the comment, appeal, or objection period. Where more than one newspaper is listed for any unit, the first newspaper listed is the primary newspaper of record of which publication date shall be used for calculating the time period to file comment, appeal, or an objection.

Southwestern Regional Office

Regional Forester

Notices of Availability for Comment and Decisions and Objections affecting New Mexico Forests:—“Albuquerque Journal”, Albuquerque, New Mexico, for National Forest System Lands in the State of New Mexico for any projects of Region-wide impact, or for any projects affecting more than one National Forest or National Grassland in New Mexico. Regional Forester Notices of Availability for Comment and Decisions and Objections affecting Arizona Forests:—“The Arizona Republic”, Phoenix, Arizona, for National Forest System lands in the State of Arizona for any projects of Region-wide impact, or for any projects affecting more than one National Forest in Arizona.

Regional Forester Notices of Availability for Comment and Decisions and Objections affecting National Grasslands in New Mexico, Oklahoma, and Texas are listed by Grassland and location as follows: Kiowa National Grassland notices published in:—“Union County Leader”, Clayton New Mexico. Rita Blanca National Grassland in Cimarron County, Oklahoma notices published in:—“Boise City News”, Boise City, Oklahoma. Rita Blanca National Grassland in Dallam County, Texas notices published in:—“The Dalhart Texan”, Dalhart, Texas. Black Kettle National Grassland in Roger Mills County, Oklahoma notices published in:—“Cheyenne Star”, Cheyenne, Oklahoma. Black Kettle National Grassland in Hemphill County, Texas notices published in:—“The Canadian Record”, Canadian, Texas. McClellan Creek National Grassland in Gray County, Texas notices published in:—“The Pampa News”, Pampa, Texas.

Regional Forester Notices of Availability for Comment and Decisions and Objections affecting only one National Forest or National Grassland unit will appear in the newspaper of record elected by each National Forest or National Grassland as listed below.

Arizona National Forests

Apache-Sitgreaves National Forests

Notices for Availability for Comments, Decisions and Objections by Forest Supervisor, Alpine Ranger District, Black Mesa Ranger District, Lakeside Ranger District, and Springerville Ranger District are published in:—“The White Mountain Independent”, Apache County, Arizona.

Clifton Ranger District Notices are published in:—“Copper Era”, Clifton, Arizona.

Coconino National Forest

Notices for Availability for Comments, Decisions and Objections by Forest Supervisor, Mogollon Rim Ranger District, and Flagstaff Ranger District are published in:—“Arizona Daily Sun”, Flagstaff, Arizona.

Red Rock Ranger District Notices are published in:—“Red Rock News”, Sedona, Arizona.

Coronado National Forest

Notices for Availability for Comments, Decisions and Objections by Forest Supervisor and Santa Catalina Ranger District are published in:—“The Arizona Daily Star”, Tucson, Arizona.

Douglas Ranger District Notices are published in:—“Daily Dispatch”, Douglas, Arizona; notices for projects occurring within the Peloncillo Mountain Range (the Peloncillo Ecosystem Management Area) are published in:—“Hidalgo County Herald”, Lordsburg, New Mexico. Nogales Ranger District Notices are published in:—“Nogales International”, Nogales, Arizona.

Sierra Vista Ranger District Notices for projects east of Highway 83 are published in:—“Sierra Vista Herald”, Sierra Vista, Arizona; notices for projects west of Highway 83 are published in:—“Nogales International”, Nogales, Arizona.

Safford Ranger District Notices are published in:—“Eastern Arizona Courier”, Safford, Arizona.

Kaibab National Forest

Notices for Availability for Comments, Decisions and Objections by Forest Supervisor, North Kaibab Ranger District, Tusayan Ranger District, and Williams Ranger District Notices are published in:—“Arizona Daily Sun”, Flagstaff, Arizona.

Prescott National Forest

Notices for Availability for Comments, Decisions and Objections by Forest Supervisor, Bradshaw Ranger District, and Chino Valley Ranger District are published in:—“Daily Courier”, Prescott, Arizona. Verde Ranger District Notices are published in: “Verde Independent”, Cottonwood, Arizona.

Tonto National Forest

Notices for Availability for Comments, Decisions, and Objections by Forest Supervisor, Cave Creek Ranger District, and Mesa Ranger District are published in:—“Arizona Capitol Times”, in Phoenix, Arizona.

Globe Ranger District Notices are published in:—“Arizona Silver Belt”, Globe, Arizona. Payson Ranger District, Pleasant Valley Ranger District and Tonto Basin Ranger District Notices are published in:—“Payson Roundup”, Payson, Arizona.

New Mexico National Forests

Carson National Forest

Notices for Availability for Comments, Decisions and Objections by Forest Supervisor, Camino Real Ranger District, Tres Piedras Ranger District and Questa Ranger District are published in:—“The Taos News”, Taos, New Mexico.

Canjilon Ranger District and El Rito Ranger District Notices are published in:—“Rio Grande Sun”, Espanola, New Mexico.

Jicarilla Ranger District Notices are published in:—“Farmington Daily Times”, Farmington, New Mexico.

Cibola National Forest and National Grasslands

Notices for Availability for Comments, Decisions and Objections by Forest Supervisor affecting lands in New Mexico, except the National Grasslands are published in:—“Albuquerque Journal”, Albuquerque, New Mexico.

Forest Supervisor Notices affecting National Grasslands in New Mexico, Oklahoma and Texas are published by grassland and location as follows: Kiowa National Grassland in Colfax, Harding, Mora and Union Counties, New Mexico published in:—“Union County Leader”, Clayton, New Mexico. Rita Blanca National Grassland in Cimarron County, Oklahoma published in:—“Boise City News”, Boise City, Oklahoma. Rita Blanca National Grassland in Dallam County, Texas published in:—“The Dalhart Texan”, Dalhart, Texas. Black Kettle National Grassland, in Roger Mills County, Oklahoma published in:—“Cheyenne Star”, Cheyenne, Oklahoma. Black Kettle National Grassland, in Hemphill County, Texas, published in:—“The Canadian Record”, Canadian, Texas. McClellan Creek National Grassland published in:—“The Pampa News”, Pampa, Texas.

Mt. Taylor Ranger District Notices are published in:—“Cibola County Beacon”, Grants, New Mexico.

Magdalena Ranger District Notices are published in:—“El Defensor-Chieftain”, Socorro, New Mexico.

Mountainair Ranger District Notices are published in:—“The Independent”, Edgewood, New Mexico.

Sandia Ranger District Notices are published in:—“Albuquerque Journal”, Albuquerque, New Mexico.

Kiowa National Grassland Notices are published in:—“Union County Leader”, Clayton, New Mexico.

Rita Blanca National Grassland Notices in Cimarron County, Oklahoma are published in:—“Boise City News”, Boise City, Oklahoma while Rita Blanca National Grassland Notices in Dallam County, Texas are published in:—“Dalhart Texan”, Dalhart, Texas.

Black Kettle National Grassland Notices in Roger Mills County, Oklahoma are published in:—“Cheyenne Star”, Cheyenne, Oklahoma, while Black Kettle National Grassland Notices in Hemphill County, Texas are published in:—“The Canadian Record”, Canadian, Texas.

McClellan Creek National Grassland Notices are published in:—“The Pampa News”, Pampa, Texas.

Gila National Forest

Notices for Availability for Comments, Decisions and Objections by Forest Supervisor, Quemado Ranger District, Reserve Ranger District, Glenwood Ranger District, Silver City Ranger District and Wilderness Ranger District are published in:—“Silver City Daily Press”, Silver City, New Mexico.

Black Range Ranger District Notices are published in:—“The Herald”, Truth or Consequences, New Mexico.

Lincoln National Forest

Notices for Availability for Comments, Decisions and Objections by Forest Supervisor and the Sacramento Ranger District are published in:—“Alamogordo Daily News”, Alamogordo, New Mexico.

Guadalupe Ranger District Notices are published in:—”Carlsbad Current Argus”, Carlsbad, New Mexico.

Smokey Bear Ranger District Notices are published in:—“Ruidoso News”, Ruidoso, New Mexico.

Santa Fe National Forest

Notices for Availability for Comments, Decisions and Objections by Forest Supervisor, Coyote Ranger District, Cuba Ranger District, Espanola Ranger District, Jemez Ranger District and Pecos-Las Vegas Ranger District are published in:—“Albuquerque Journal”, Albuquerque, New Mexico.

Dated: August 17, 2018.
Gregory Smith,
Associate Deputy Chief, National Forest System.

[FR Doc. 2018-19181 Filed 9-4-18; 8:45 am]

BILLING CODE 3411-15-P